DEPARTMENT OF HOUSING AND URBAN DEVELOPMENT

24 CFR Parts 1000, 1003, 1005, 1006, and 1007

[Docket No. FR 5861-N-02]

RIN 2577-AC96

Equal Access to Housing in HUD's Native American and Native Hawaiian Programs—Regardless of Sexual Orientation or Gender Identity; Correction

AGENCY: Office of the Assistant Secretary for Public and Indian Housing, HUD.

ACTION: Proposed rule; correction.

SUMMARY: On May 9, 2016, HUD published a proposed rule that would revise regulations for HUD's Native American and Native Hawaiian programs to incorporate existing rules that require HUD programs to be open to all eligible individuals and families regardless of sexual orientation, gender identity, or marital status. After publication, HUD discovered an inadvertent mistake in the preamble to the document. The preamble contained incomplete information in the For Further Information Contact section. This document revises the For Further Information Contact section of the preamble.

DATES: This document corrects the proposed rule published on May 9, 2016 (81 FR 28037). The comment due date for that proposed rule remains unchanged as July 8, 2016.

FOR FURTHER INFORMATION CONTACT: With respect to this supplementary document, contact Camille E. Acevedo, Associate General Counsel for Legislation and Regulations, Department of Housing and Urban Development, 451 7th Street SW., Room 10238, Washington, DC 20410; telephone number 202-708-1793 (this is not a toll-free number). Persons with hearing or speech impairments may access this number through TTY by calling the toll-free Federal Relay Service at 800-877-8339.

Correction

In proposed rule FR Doc. 2016-10753, beginning on page 28037 in the issue of May 9, 2016, make the following correction in the For Further Information Contact section. On page 28037 in the 3rd column, revise the information in the For Further Information Contact section to read as follows:

“Randy Akers, Acting Deputy Assistant Secretary, Office of Native American Housing Programs, Office of Public and Indian Housing, 451 7th Street SW., Room 4126, Washington, DC 20410-8000; telephone number 202-401-7914 (this is not a toll-free number). Persons with hearing or speech impairments may access this number through TTY by calling the toll-free Federal Relay Service at 800-877-8339.”

Dated: May 12, 2016.
Camille E. Acevedo,
Associate General Counsel for Legislation and Regulations.

[FR Doc. 2016-11747 Filed 5-17-16; 8:45 am]

BILLING CODE 4210-67-P